DEPARTMENT OF THE TREASURY

Office of Foreign Assets Control

Designation of Two Individuals Pursuant to Executive Order 13224; Correction

AGENCY: Office of Foreign Assets Control, Treasury.

ACTION: Notice; correction.

SUMMARY: The Department of the Treasury published a document in the Federal Register of October 25, 2010, concerning the designation of two individuals pursuant to Executive Order 13224 of September 23, 2001, “Blocking Property and Prohibiting Transactions With Persons Who Commit, Threaten To Commit, or Support Terrorism.” The document contained incorrect dates.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Correction

In the Federal Register of October 25, 2010, in FR Doc. 2010-26809, on page 65556, in the second column, correct the DATES caption to read:

DATES: The designation by the Director of OFAC of the two individuals identified in this notice, pursuant to Executive Order 13224, is effective on October 26, 2010.

On page 65556, in the third column, correct the second paragraph to read:

On October 26, 2010 the Director of OFAC, in consultation with the Departments of State, Homeland Security, Justice and other relevant agencies, designated, pursuant to one or more of the criteria set forth in subsections 1(b), 1(c) or 1(d) of the Order, two individuals whose property and interests in property are blocked pursuant to Executive Order 13224.

On page 65557, in the first column, correct the “Dated” caption to read:

Dated: October 26, 2010.
Adam J. Szubin,
Director, Office of Foreign Assets Control.

[FR Doc. 2010-27511 Filed 10-29-10; 8:45 am]

BILLING CODE 4810-AL-P